DEPARTMENT OF COMMERCE

National Oceanic and Atmospheric Administration

50 CFR Part 648

[Docket No. 000105004-0260-02; I.D. 063099A]

RIN 0648-AI78

Magnuson-Stevens Fishery Conservation and Management Act Provisions; Fisheries of the Northeastern United States; Atlantic Herring Fishery; Atlantic Herring Fishery Management Plan; Partial Delay

AGENCY: National Marine Fisheries Service (NMFS), National Oceanic and Atmospheric Administration (NOAA), Commerce.

ACTION: Final rule; partial delay.

SUMMARY: In accordance with the memorandum of January 20, 2001, from the Assistant to the President and Chief of Staff, entitled “Regulatory Review Plan,” published in the Federal Register on January 24, 2001, this action temporarily delays for 60 days the effective date of certain portions of the final rule implementing the Atlantic Herring Fishery Management Plan published in the Federal Register on December 11, 2000.

DATES: In the final rule, published at 65 FR 77450, December 11, 2000, the effective date of 50 CFR 648.14(bb)(15) and (16) and 648.205(a) is delayed from March 12, 2001, until May 11, 2001.

FOR FURTHER INFORMATION CONTACT: E. Martin Jaffe, Fishery Policy Analyst, 978-281-9272.

SUPPLEMENTARY INFORMATION: The final rule published on December 11, 2000 (65 FR 77450), implemented approved measures contained in the FMP, which was partially approved by NMFS on behalf of the Secretary of Commerce on October 27, 1999. The requirement to install and use a VMS unit on vessels in the directed herring fishery that caught greater than 500 mt in the previous year, or vessels whose owner intends to harvest greater than 500 mt in the current year would have become effective March 12, 2001. Prohibitions related to this requirement were also scheduled to become effective on March 12. However, consistent with the guidance contained in the “Regulatory Review Plan,” NMFS is delaying the effectiveness of the VMS requirement until May 11. 2001. All other measures implemented in the final rule implementing the Atlantic Herring FMP published December 11, 2000, remain in effect.

Classification

This action is authorized by 50 CFR part 648 and is exempt from review under Executive Order 12866.

To the extent that 5 U.S.C. 553 applies to this action, it is exempt from notice and comment because it constitutes a rule of procedure under 5 U.S.C. 553(b)(A). Alternatively, NMFS’ implementation of this rule without opportunity for public comment is based on the good cause exceptions in 5 U.S.C. 553(b)(B) and 553(d)(3), in that seeking public comment is impracticable, unnecessary, and contrary to the public interest. Given the imminence of the effective date, seeking prior public comment on this temporary stay would have been impractical, as well as contrary to the public interest in the orderly promulgation and implementation of regulations. Delays in publishing the final rule implementing the delay of the effectiveness while seeking public comment would have led to confusion in the fishing industry concerning whether to purchase and install VMS equipment during this interim period.

Authority: 16 U.S.C. 1801 et seq.

Dated: February 21, 2001.
William T. Hogarth,
Acting Assistant Administrator for Fisheries, National Marine Fisheries Service.

[FR Doc. 01-4745 Filed 2-22-01; 3:12 pm]

BILLING CODE 3510-22-S